DEPARTMENT OF ENERGY

Federal Energy Regulatory Commission

[Project No. 516-513]

Dominion Energy South Carolina, Inc.; Notice of Availability of Final Environmental Assessment

In accordance with the National Environmental Policy Act of 1969 and the Federal Energy Regulatory Commission's (Commission or FERC) regulations, 18 CFR part 380, Commission staff reviewed Dominion Energy South Carolina's (licensee) application for a Non-project Use of Project Lands and Waters of the Saluda Hydroelectric Project No. 516 and have prepared an Environmental Assessment (EA) for a proposed water withdraw. The licensee proposes to allow the City of West Columbia, South Carolina (City), the use of Saluda Hydroelectric project lands and waters to expand the use of the City's existing raw water withdrawal facility. The City would replace two pumps within their exiting raw water intake facility, excavate and install a larger conveyance pipe, and increase its maximum withdrawal from Lake Murry from an approved 48 million gallons per day (mgd) to 72 mgd, an increase of 24 mgd. The Saluda project is located on the Saluda River in Richland, Lexington, Saluda, and Newberry counties, South Carolina. The proposed action is located at the existing raw water pump facility in Lexington County. The project does not occupy federal lands.

The final EA contains Commission staff's analysis of the potential environmental effects of the proposed water withdraw, alternatives to the proposed action, and concludes that the proposed water withdraw, with appropriate environmental protective measures, would not constitute a major federal action significantly affecting the quality of the human environment.

The final EA may be viewed on the Commission's website at http://www.ferc.gov using the “eLibrary” link. Enter the docket number (P-516-513) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Robert Ballantine at 202-502-6289 or robert.ballantine@ferc.gov.

Dated: January 26, 2024.
Debbie-Anne A. Reese,
Acting Secretary.

[FR Doc. 2024-02029 Filed 1-31-24; 8:45 am]

BILLING CODE 6717-01-P